DEPARTMENT OF DEFENSE

Office of the Secretary

Privacy Act of 1974; System of Records

AGENCY: Office of the Secretary, DoD.

ACTION: Notice to Alter Systems of Records.

SUMMARY: The Office of the Secretary of Defense proposes to alter two systems of records notices in its inventory of record systems subject to the Privacy Act of 1974 (5 U.S.C. 552a), as amended. The alteration consists of adding exemptions to two existing systems of records.

DATES: The changes will be effective on December 30, 2002 unless comments are received that would result in a contrary determination.

ADDRESSES: Send comments to OSD Privacy Act Coordinator, Records Management Section, Washington Headquarters Services, 1155 Defense Pentagon, Washington, DC 20301-1155.

FOR FURTHER INFORMATION CONTACT: Mr. David Bosworth at (703) 601-4728.

SUPPLEMENTARY INFORMATION: The Office of the Secretary of Defense notices for systems of records subject to the Privacy Act of 1974 (5 U.S.C. 552a), as amended, have been published in the Federal Register and are available from the address above.

The proposed systems reports, as required by 5 U.S.C. 552a(r) of the Privacy Act of 1974, as amended, were submitted on November 13, 2002, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: November 18, 2002.
Patricia L. Toppings,
Alternate OSD Federal Register Liaison Officer, Department of Defense.

DPA DFOI.A 05

System name:

Freedom of Information Program Case Files (February 22, 1993, 58 FR 10227).

Changes:

System identifier:

Delete entry and replace with ‘DFOISR 05'.

System name:

Delete entry and replace with ‘Freedom of Information Act Case Files’.

* * * * *

System location:

Delete entry and replace with ‘Directorate, Freedom of Information and Security Review, Washington Headquarters Services, 1155 Defense Pentagon, Washington, DC 20301-1155.’

Categories of individuals covered by the system:

Delete entry and replace with ‘All individuals who submit Freedom of Information Act (FOIA) requests and administrative appeals to the Office of the Secretary of Defense, the Joint Staff, and other activities receiving administrative FOIA support from Washington Headquarters Services (WHS); individuals whose FOIA requests and/or records have been referred by other Federal agencies to the WHS for release to the requester; attorneys representing individuals submitting such requests and appeals, individuals who are the subjects of such requests and appeals, and/or the WHS personnel assigned to handle such requests and appeals.’

Categories of records in the system:

Delete entry and replace with ‘Records created or compiled in response to FOIA requests and administrative appeals, i.e., original requests and administrative appeals; responses to such requests and administrative appeals; all related memoranda, correspondence, notes, and other related or supporting documentation; and copies of requested records and records under administrative appeal.’

* * * * *

Purpose(s):

Delete entry and replace with ‘Information is being collected and maintained for the purpose of processing FOIA requests and administrative appeals; for participating in litigation regarding agency action on such requests and appeals; and for assisting the Department of Defense in carrying out any other responsibilities under the FOIA.’

* * * * *

Retrievability:

Delete entry and replace with ‘Retrieved by name, subject matter, date of document, and request number.’

* * * * *

Retention and disposal:

Delete entry and replace with ‘Paper records that are granted are destroyed 2 years after the date of reply. Paper records that are denied in whole or part, no records responses, responses to requesters who do not adequately describe records being sought, do not state a willingness to pay fees, and records which are appealed or litigated are destroyed 6 years after final action. Electronic records are deleted when no longer needed to support Directorate business needs.’

* * * * *

Exemptions claimed for the system:

Delete entry and replace with ‘During the course of a FOIA action, exempt materials from other systems of records may in turn become part of the case records in this system. To the extent that copies of exempt records from those ‘other’ systems of records are entered into this FOIA case record, Washington Headquarters Services hereby claims the same exemptions for the records from those ‘other’ systems that are entered into this system, as claimed for the original primary systems of records which they are a part.

An exemption rule for this system has been promulgated in accordance with requirements of 5 U.S.C. 553(b)(1), (2), and (3), (c) and (e) and published in 32 CFR part 311. For additional information contact the system manager.’

* * * * *

DFOISR 05

System name:

Freedom of Information Act Case Files.

System location:

Directorate, Freedom of Information and Security Review, Washington Headquarters Services, 1155 Defense Pentagon, Washington, DC 20301-1155.

Categories of individuals covered by the system:

All individuals who submit Freedom of Information Act (FOIA) requests and administrative appeals to the Office of the Secretary of Defense, the Joint Staff, and other activities receiving administrative FOIA support from Washington Headquarters Services (WHS); individuals whose FOIA requests and/or records have been referred by other Federal agencies to the WHS for release to the requester; attorneys representing individuals submitting such requests and appeals, individuals who are the subjects of such requests and appeals, and/or the WHS personnel assigned to handle such requests and appeals.

Categories of records in the system:

Records created or compiled in response to FOIA requests and administrative appeals, i.e., original requests and administrative appeals; responses to such requests and administrative appeals; all related memoranda, correspondence, notes, and other related or supporting documentation; and copies of requested records and records under administrative appeal.

Authority for maintenance of the system:

5 U.S.C. 301, Departmental Regulations and 5 U.S.C. 552, The Freedom of Information Act, as amended; and DoD 5400.7-R, DoD Freedom of Information Act Program.

Purpose(s):

Information is being collected and maintained for the purpose of processing FOIA requests and administrative appeals; for participating in litigation regarding agency action on such requests and appeals; and for assisting the Department of Defense in carrying out any other responsibilities under the FOIA.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of OSD's compilation of systems of records notices apply to this system.

Policies and practices for storing, retrieving, accessing, retaining, and disposing of records in the system:

Storage:

Computer magnetic disks, computer database, optical disk, and paper records in file folders.

Retrievability:

Retrieved by name, subject matter, date of document, and request number.

Safeguards:

Paper records are maintained in security containers with access only to officials whose access is based on requirements of assigned duties. Computer databases are password protected and accessed by individuals who have a need-to-know.

Retention and disposal:

Paper records that are granted are destroyed 2 years after the date of reply. Paper records that are denied in whole or part, no records responses, responses to requesters who do not adequately describe records being sought, or do not state a willingness to pay fees, and records which are appealed or litigated are destroyed 6 years after final action. Electronic records are deleted when no longer needed to support Directorate business needs.

System manager(s) and address:

Director, Freedom of Information and Security Review, Washington Headquarters Services, 1155 Defense Pentagon, Washington, DC 20301-1155.

Notification procedure:

Individuals seeking to determine whether information about themselves is contained in this system of records should address written inquiries to the Director, Freedom of Information and Security Review, Washington Headquarters Services, 1155 Defense Pentagon, Washington, DC 20301-1155.

Written requests for information should include the full name of the individual.

Record access procedures:

Individuals seeking access to information about themselves contained in this system of records should address written inquiries to Director, Freedom of Information and Security Review, Washington Headquarters Services, 1155 Defense Pentagon, Washington, DC 20301-1155.

Written requests for information should include the full name of the individual.

For personal visits to examine records, the individual should provide a form of picture identification, i.e., a driver's license.

Contesting record procedures:

The OSD rules for accessing records, for contesting contents and appealing initial agency determinations are published in OSD Administrative Instruction 81; 32 CFR part 311; or may be obtained from the system manager.

Record source categories:

Those individuals who submit initial requests and administrative appeals pursuant to the FOIA, the agency records searched in the process of responding to such requests and appeals; Department of Defense personnel assigned to handle such requests and appeals; other agencies or entities that have referred to the Department of Defense requests concerning Department of Defense records, or that have consulted with the Department of Defense regarding the handling of particular requests; and submitters of records or information that have provided assistance to the Department of Defense in making FOIA access determinations.

Exemptions claimed for the system:

During the course of a FOIA action, exempt materials from other systems of records may in turn become part of the case records in this system. To the extent that copies of exempt records from those ‘other’ systems of records are entered into this FOIA case record, Washington Headquarters Services hereby claims the same exemptions for the records from those ‘other’ systems that are entered into this system, as claimed for the original primary systems of records which they are a part.

An exemption rule for this system has been promulgated in accordance with requirements of 5 U.S.C. 553(b)(1), (2), and (3), (c), and (e) and published in 32 CFR part 311. For additional information contact the system manager.'

DPA DXA.D 10

System name:

Privacy Act Request for Access Files (February 22, 1993, 58 FR 10227).

Changes:

System identifier:

Delete entry and replace with ‘DFOISR 10’.

System name:

Delete ‘Request for Access’ and replace with ‘Case'.

* * * * *

Categories of individuals covered by the system:

Delete entry and replace with ‘All individuals who submit Privacy Act requests and administrative appeals to the Washington Headquarters Services (WHS), the Joint Staff, and other activities receiving administrative support from WHS; individuals whose requests and/or records have been referred by other Federal agencies to WHS for release to the requester; attorneys representing individuals submitting such requests and appeals, individuals who are the subjects of such requests and appeals, and WHS personnel assigned to handle such requests and appeals.’

Categories of records in the system:

Delete entry and replace with ‘Records created or compiled in response to Privacy Act requests and administrative appeals, i.e., original requests and administrative appeals; responses to such requests and administrative appeals; all related memoranda, correspondence, notes, and other related or supporting documentation; and copies of requested records and records under administrative appeal.’

Purpose(s):

Delete entry and replace with ‘Information is being collected and maintained for the purpose of processing Privacy Act requests and administrative appeals; for participating in litigation regarding agency action on such requests and appeals; and for assisting the Department of Defense in carrying out any other responsibilities under the Privacy Act of 1974.’

* * * * *

Storage:

Delete current entry and replace with ‘Computer database, optical disk and paper records in file folders.’

Retrievability:

Delete entry and replace with ‘Retrieved by name and/or request number.’

* * * * *

Retention and disposal:

Delete entry and replace with ‘Paper records that are granted are destroyed 2 years after the date of reply. Paper records that are denied in whole or part, no record responses, responses to requesters who do not adequately describe records being sought and records that are appealed or litigated are destroyed 6 years after final action. Electronic records are deleted when no longer needed to support Directorate business needs.’

* * * * *

Exemptions claimed for the system:

Delete entry and replace with ‘During the course of a Privacy Act (PA) action, exempt materials from other systems of records may become part of the case records in this system of records. To the extent that copies of exempt records from those ‘other’ systems of records are entered into these PA case records, Washington Headquarters Services hereby claims the same exemptions for the records as they have in the original primary systems of records which they are a part.

An exemption rule for this system has been promulgated in accordance with requirements of 5 U.S.C. 553(b)(1), (2), and (3), (c) and (e) and published in 32 CFR part 311. For additional information contact the system manager.'

DFOISR 10

System name:

Privacy Act Case Files.

System location:

Directorate for Freedom of Information and Security Review, Washington Headquarters Services, 1155 Defense Pentagon, Washington, DC 20301-1155.

Categories of individuals covered by the system:

All individuals who submit Privacy Act requests and administrative appeals to the Washington Headquarters Services (WHS), the Joint Staff, and other activities receiving administrative support from WHS; individuals whose requests and/or records have been referred by other Federal agencies to WHS for release to the requester; attorneys representing individuals submitting such requests and appeals, individuals who are the subjects of such requests and appeals, and WHS personnel assigned to handle such requests and appeals.

Categories of records in the system:

Records created or compiled in response to Privacy Act requests and administrative appeals, i.e., original requests and administrative appeals; responses to such requests and administrative appeals; all related memoranda, correspondence, notes, and other related or supporting documentation; and copies of requested records and records under administrative appeal.

Authority for maintenance of the system:

5 U.S.C. 301, Departmental Regulations; 5 U.S.C. 552a, The Privacy Act of 1974, as amended; Administrative Instruction 81, Privacy Program; DoD 5400.11-R, Department of Defense Privacy Program; and E.O. 9397 (SSN).

Purpose(s):

Information is being collected and maintained for the purpose of processing Privacy Act requests and administrative appeals; for participating in litigation regarding agency action on such requests and appeals; and for assisting the Department of Defense in carrying out any other responsibilities under the Privacy Act of 1974

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of OSD's compilation of systems of records notices apply to this system.

Policies and practices for storing, retrieving, accessing, retaining, and disposing of records in the system:

Storage:

Computer database, optical disk and paper records in file folders.

Retrievability:

Filed chronologically by request number and retrieved by name and/or request number.

Safeguards:

Records are maintained in security containers with access only to officials whose access is based on requirements of assigned duties. Computer databases are password protected and accessed by individuals who have a need-to-know.

Retention and disposal:

Paper records that are granted are destroyed 2 years after the date of reply. Paper records that are denied in whole or part, no record responses, responses to requesters who do not adequately describe records being sought and records that are appealed or litigated are destroyed 6 years after final action. Electronic records are deleted when no longer needed to support Directorate business needs.

System manager(s) and address:

Director, Freedom of Information and Security Review, Washington Headquarters Services, 1155 Defense Pentagon, Washington, DC 20301-1155.

Notification procedure:

Individuals seeking to determine whether information about themselves is contained in this system of records should address written inquiries to Director, Freedom of Information and Security Review, Washington Headquarters Services, 1155 Defense Pentagon, Washington, DC 20301-1155.

Written requests for information should include the full name of the individual.

Record access procedures:

Individuals seeking access to information about themselves in this system of records should address written inquiries to Director, Freedom of Information and Security Review, Washington Headquarters Services, 1155 Defense Pentagon, Washington, DC 20301-1155.

Written requests for information should include the full name of the individual.

For personal visits to examine records, the individual should provide a form of picture identification, i.e., a driver's license.

Contesting record procedures:

The OSD rules for accessing records, for contesting contents and appealing initial agency determinations are published in OSD Administrative Instruction 81; 32 CFR part 311; or may be obtained from the system manager.

Record source categories:

Those individuals who submit initial requests and administrative appeals pursuant to the Privacy Act; the agency records searched in the process of responding to such requests and appeals; Department of Defense personnel assigned to handle such requests and appeals; other agencies or entities that have referred to the Department of Defense requests concerning Department of Defense records, or that have consulted with the Department of Defense regarding the handling of particular requests; and submitters or subjects of records or information that have provided assistance to the Department of Defense in making access or amendment determinations.

Exemptions claimed for the system:

During the course of a Privacy Act (PA) action, exempt materials from other systems of records may become part of the case records in this system of records. To the extent that copies of exempt records from those ‘other’ systems of records are entered into these PA case records, Washington Headquarters Services hereby claims the same exemptions for the records as they have in the original primary systems of records which they are a part.

An exemption rule for this system has been promulgated in accordance with requirements of 5 U.S.C. 553(b)(1), (2), and (3), (c), and (e) and published in 32 CFR part 311. For additional information contact the system manager.

[FR Doc. 02-29817 Filed 11-27-02; 8:45 am]

BILLING CODE 5001-08-P